DEPARTMENT OF HOMELAND SECURITY

Coast Guard

33 CFR Parts 100 and 165

[Docket No. USCG-2011-1023]

RIN 1625-AA08; 1625-AA00

Special Local Regulations and Safety Zones; Recurring Events in Northern New England

AGENCY: Coast Guard, DHS.

ACTION: Notice of proposed rulemaking.

SUMMARY: The Coast Guard proposes to update recurring special local regulations and safety zones in the Coast Guard Captain of the Port (COTP) Northern New England Zone for annual recurring marine events. When these special local regulations or safety zones are subject to enforcement, this rule would restrict vessels from portions of water areas during these annual recurring events. The revised special local regulations and safety zones would expedite public notification of events, and ensure the protection of the maritime public and event participants from the hazards associated with these annual recurring events.

DATES: Comments and related material must be received by the Coast Guard on or before February 27, 2012. Requests for public meetings must be received by the Coast Guard on or before January 17, 2012.

ADDRESSES: You may submit comments identified by docket number USCG-2011-1023 using any one of the following methods:

(1) Federal eRulemaking Portal: http://www.regulations.gov.

(2) Fax: (202) 493-2251.

(3) Mail: Docket Management Facility (M-30), U.S. Department of Transportation, West Building Ground Floor, Room W12-140, 1200 New Jersey Avenue SE., Washington, DC 20590-0001.

(4) Hand delivery: Same as mail address above, between 9 a.m. and 5 p.m., Monday through Friday, except Federal holidays. The telephone number is (202) 366-9329.

To avoid duplication, please use only one of these four methods. See the “Public Participation and Request for Comments” portion of the SUPPLEMENTARY INFORMATION section below for instructions on submitting comments.

FOR FURTHER INFORMATION CONTACT: If you have questions on this proposed rule, call or email Lieutenant Junior Grade Terence Leahy, Waterways Management Division at Coast Guard Sector Northern New England, telephone (207) 767-0398, email Terence.O.Leahy@uscg.mil. If you have questions on viewing or submitting material to the docket, call Renee V. Wright, Program Manager, Docket Operations, telephone (202) 366-9826.

SUPPLEMENTARY INFORMATION:

Public Participation and Request for Comments

We encourage you to participate in this rulemaking by submitting comments and related materials. All comments received will be posted without change to http://www.regulations.gov and will include any personal information you have provided.

Submitting Comments

If you submit a comment, please include the docket number for this rulemaking (USCG-2011-1023), indicate the specific section of this document to which each comment applies, and provide a reason for each suggestion or recommendation. You may submit your comments and material online (via http://www.regulations.gov) or by fax, mail, or hand delivery, but please use only one of these means. If you submit a comment online via www.regulations.gov, it will be considered received by the Coast Guard when you successfully transmit the comment. If you fax, hand deliver, or mail your comment, it will be considered as having been received by the Coast Guard when it is received at the Docket Management Facility. We recommend that you include your name and a mailing address, an email address, or a telephone number in the body of your document so that we can contact you if we have questions regarding your submission.

To submit your comment online, go to http://www.regulations.gov, click on the “submit a comment” box, which will then become highlighted in blue. In the “Document Type” drop down menu select “Proposed Rule” and insert “USCG-2011-1023” in the “Keyword” box. Click “Search” then click on the balloon shape in the “Actions” column. If you submit your comments by mail or hand delivery, submit them in an unbound format, no larger than 8½ by 11 inches, suitable for copying and electronic filing. If you submit comments by mail and would like to know that they reached the Facility, please enclose a stamped, self-addressed postcard or envelope. We will consider all comments and material received during the comment period and may change the rule based on your comments.

Viewing Comments and Documents

To view comments, as well as documents mentioned in this preamble as being available in the docket, go to http://www.regulations.gov, click on the “read comments” box, which will then become highlighted in blue. In the “Keyword” box insert “USCG-2011-1023” and click “Search.” Click the “Open Docket Folder” in the “Actions” column. You may also visit the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility.

Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

Public Meeting

We do not now plan to hold a public meeting. But you may submit a request for one using one of the four methods specified under ADDRESSES. Please explain why you believe a public meeting would be beneficial. If we determine that one would aid this rulemaking, we will hold one at a time and place announced by a later notice in the Federal Register.

For information on facilities or services for individuals with disabilities or to request special assistance at the public meeting, contact Lieutenant Junior Grade Terence Leahy at the telephone number or email address indicated under the FOR FURTHER INFORMATION CONTACT section of this notice.

Basis and Purpose

The legal basis for the proposed rule is 33 U.S.C. 1226, 1231, 1233; 46 U.S.C. chapter 701, 3306, 3703; 50 U.S.C. 191, 195; 33 CFR 1.05-1, and 160.5; Public Law 107-295, 116 Stat. 2064; and Department of Homeland Security Delegation No. 0170.1, which collectively authorize the Coast Guard to define regulatory safety zones and special local regulations.

Swim events, fireworks displays, and marine events are held on an annual recurring basis on the navigable waters within the Coast Guard COTP Northern New England Zone. In the past, the Coast Guard has established special local regulations, regulated areas and safety zones for these annual recurring events on a case by case basis to ensure the protection of the maritime public and event participants from the hazards associated with these events. The Coast Guard has not received public comments or concerns regarding the impact to waterway traffic from these annually recurring events.

This proposed rule will consistently apprise the public in a timely manner through permanent publication in Title 33 of the Code of Federal Regulations. The TABLES in this proposed regulation list each annual recurring event requiring a regulated area as administered by the Coast Guard.

By establishing permanent regulations containing these events, the Coast Guard would eliminate the need to establish temporary rules for events that occur on an annual basis and thereby limit the costs associated with cumulative regulations.

This rulemaking will remove, add, and consolidate regulations to better meet the Coast Guard's intended purpose of ensuring safety during these events.

Discussion of Proposed Rule

The Coast Guard proposes to amend 33 CFR 100.120 (Special Local Regulations) and 33 CFR 165.171 (Safety Zones).

The proposed rule would apply to the annual recurring events listed in the attached TABLES in the Coast Guard COTP Northern New England Zone. The TABLES provide the event name, sponsor, and type, as well as approximate dates and locations of the events. The specific times, dates, regulated areas, and enforcement period for each event will be provided through the Local Notice to Mariners, Broadcast Notice to Mariners or through a Notice of Enforcement published in the Federal Register.

The particular size of the safety zones established for each event will be reevaluated on an annual basis in accordance with Navigational and Vessel Inspection Circular (NVIC) 07-02, Marine Safety at Firework Displays, the National Fire Protection Association Standard 1123, Code for Fireworks Displays (100-foot distance per inch of diameter of the fireworks mortars), and other pertinent regulations and publications.

This proposed regulation would prevent vessels from transiting areas specifically designated as special local regulations or safety zones during the periods of enforcement to ensure the protection of the maritime public and event participants from the hazards associated with the listed annual recurring events. Only event sponsors, designated participants, and official patrol vessels will be allowed to enter regulated areas. Spectators and other vessels not registered as event participants may not enter the regulated areas without the permission of the COTP or the designated representative.

Regulatory Analyses

We developed this proposed rule after considering numerous statutes and executive orders related to rulemaking. Below we summarize our analyses based on 13 of these statutes or executive orders.

Regulatory Evaluation

This proposed rule is not a significant regulatory action under section 3(f) of Executive Order 12866, Regulatory Planning and Review, as supplemented by Executive Order 13563, and does not require an assessment of potential costs and benefits under section 6(a)(3) of that Order. The Office of Management and Budget has not reviewed it under that Order.

We expect the economic impact of this proposed rule to be minimal. Although this regulation may have some impact on the public, the potential impact will be minimized for the following reasons: The Coast Guard has previously promulgated safety zones or special local regulations in accordance with 33 CFR Parts 100 and 165 for approximately 85% of the event areas contained within this proposed regulation and has not received notice of any negative impact caused by any of the safety zones or special local regulations. By establishing a permanent regulation containing all of these events, the Coast Guard will eliminate the need to establish individual temporary rules for each separate event that occurs on an annual basis, thereby limiting the cost of cumulative regulations.

Vessels will only be restricted from safety zones and special local regulation areas for a short duration of time. Vessels may transit in portions of the affected waterway except for those areas covered by the proposed regulated areas. Notifications will also be made to the local maritime community through the Local Notice to Mariners and Broadcast Notice to Mariners well in advance of the events. If the event does not have a date listed, then the exact dates and times of the enforcement period will be announced through a Notice of Enforcement in the Federal Register. No new or additional restrictions will be imposed on vessel traffic.

Small Entities

Under the Regulatory Flexibility Act (5 U.S.C. 601-612), we have considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule would not have a significant economic impact on a substantial number of small entities. This proposed rule would affect the following entities, some of which might be small entities: owners or operators of vessels intending to transit, fish, or anchor in the areas where the listed annual recurring events are being held.

The proposed rule would not have a significant economic impact on a substantial number of small entities for the following reasons: vessels will only be restricted from safety zones and special local regulation areas for a short duration of time; vessels may transit in portions of the affected waterway except for those areas covered by the proposed regulated areas; the Coast Guard has promulgated safety zones or special local regulations in accordance with 33 CFR Parts 100 and 165 for approximately 85% of the event areas in the past and has not received notice of any negative impact caused by any of the safety zones or special local regulations; and notifications will be made to the local maritime community through the Local Notice to Mariners and Broadcast Notice to Mariners well in advance of the events. If the event does not have a date listed, then exact dates and times of the enforcement period will be announced through a Notice of Enforcement in the Federal Register. No new or additional restrictions would be imposed on vessel traffic.

If you think that your business, organization, or governmental jurisdiction qualifies as a small entity and that this rule would have a significant economic impact on it, please submit a comment (see ADDRESSES) explaining why you think it qualifies and how and to what degree this rule would economically affect it.

Assistance for Small Entities

Under section 213(a) of the Small Business Regulatory Enforcement Fairness Act of 1996 (Pub. L. 104-121), we want to assist small entities in understanding this proposed rule so that they can better evaluate its effects on them and participate in the rulemaking. If the rule would affect your small business, organization, or governmental jurisdiction and you have questions concerning its provisions or options for compliance, please contact the person listed under FOR FURTHER INFORMATION CONTACT. The Coast Guard will not retaliate against small entities that question or complain about this proposed rule or any policy or action of the Coast Guard.

Collection of Information

This proposed rule would call for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this proposed rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this proposed rule would not result in such an expenditure, we do discuss the effects of this rule elsewhere in this preamble.

Taking of Private Property

This proposed rule would not cause a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This rule is not an economically significant rule and would not create an environmental risk to health or risk to safety that might disproportionately affect children.

Indian Tribal Governments

This proposed rule does not have tribal implications under Executive Order 13175, Consultation and Coordination with Indian Tribal Governments, because it would not have a substantial direct effect on one or more Indian tribes, on the relationship between the Federal Government and Indian tribes, or on the distribution of power and responsibilities between the Federal Government and Indian tribes.

Energy Effects

We have analyzed this proposed rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This proposed rule does not use technical standards. Therefore, we did not consider the use of voluntary consensus standards.

Environment

We have analyzed this proposed rule under Department of Homeland Security Management Directive 023-01 and Commandant Instruction M16475.lD, which guide the Coast Guard in complying with the National Environmental Policy Act of 1969 (NEPA) (42 U.S.C. 4321-4370f), and have made a preliminary determination that this action appears to be one of a category of actions that do not individually or cumulatively have a significant effect on the human environment.

A preliminary environmental analysis checklist supporting this determination will be available in the docket where indicated under ADDRESSES. This proposed rule involves water activities including swimming events and fireworks displays. This rule appears to be categorically excluded, under figure 2-1, paragraph (34)(g) [Safety Zones] and (34)(h) [Special Local Regulations] of the Instruction.

We seek any comments or information that may lead to the discovery of a significant environmental impact from this proposed rule.

List of Subjects

33 CFR Part 100

Marine safety, Navigation (water), Reporting and record-keeping requirements, Waterways.

33 CFR Part 165

Harbors, Marine Safety, Navigation (water), Reporting and recordkeeping requirements, Security measures, and Waterways.

For the reasons discussed in the preamble, the Coast Guard proposes to amend 33 CFR parts 100 and 165 as follows:

PART 100—SAFETY OF LIFE ON NAVIGABLE WATERS

1. The authority citation for Part 100 continues to read as follows:

Authority: 33 U.S.C. 1233.

2. Revise § 100.120 as follows:

§ 100.120 Special local regulations; marine events held in the Coast Guard Sector Northern New England Captain of the Port Zone.

This section applies to the marine events listed in its table (Table to § 100.120). This section will be enforced for the duration of each event, on the dates indicated. Mariners should consult their Local Notice to Mariners to remain apprised of the specific calendar date upon which the listed event falls for each calendar year and other specific information concerning the event. First Coast Guard District Local Notice to Mariners can be found at: http://www.navcen.uscg.gov/. The Sector Northern New England Marine Events schedule can also be viewed electronically at www.homeport.uscg.mil. Although listed in the Code of Federal Regulations, sponsors of events listed in the Table to § 100.120 are still required to submit marine event applications in accordance with 33 CFR 100.15.

(a) The Coast Guard may patrol each event area under the direction of a designated Coast Guard Patrol Commander. The Patrol Commander may be contacted on Channel 16 VHF-FM (156.8 MHz) by the call sign “PATCOM.” Official patrol vessels may consist of any Coast Guard, Coast Guard Auxiliary, State, or local law enforcement vessels assigned or approved by the Captain of the Port, Sector Northern New England.

(b) Vessels may not transit the regulated areas without the Patrol Commander's approval. Vessels permitted to transit must operate at a no wake speed and in a manner which will not endanger participants or other crafts in the event.

(c) Spectators or other vessels shall not anchor, block, loiter, or impede the transit of event participants or official patrol vessels in the regulated areas during the effective dates and times, unless authorized by an official patrol vessel.

(d) The Patrol Commander may control the movement of all vessels in the regulated area. When hailed or signaled by an official patrol vessel, a vessel shall come to an immediate stop and comply with the lawful directions issued. Failure to comply with a lawful direction may result in expulsion from the area, citation for failure to comply, or both.

(e) The Patrol Commander may delay or terminate any marine event in this subpart at any time it is deemed necessary to ensure the safety of life or property.

(f) For all power boat races listed, vessels operating within the regulated area must be at anchor within a designated spectator area or moored to a waterfront facility in a way that will not interfere with the progress of the event.

(g) For all regattas and boat parades listed, spectator vessels operating within the regulated area shall maintain a separation of at least 50 yards from the participants.

(h) For all rowing and paddling boat races listed, vessels not associated with the event shall maintain a separation of at least 50 yards from the participants.

Table to § 100.120
5.0 | MAY
5.1 Champlain Bridge Celebration Flotilla Parade | • Event Type: Regatta and Boat Parade.
| • Sponsor: Lake Champlain Maritime Museum.
| • Date: A two day event on Saturday and Sunday during the third weekend in May. The specific calendar date upon which the listed event falls for each calendar year will be specified in the USCG District 1 Local Notice to Mariners.
| • Time: 12:00 pm to 2:00 pm each day.
| • Location: The regulated area includes all waters of Lake Champlain in the vicinity of the new bridge between Crown Point, New York and Chimney Point, Vermont within the following points (NAD 83):
| 44°02′29″ N, 073°26′26″ W.
| 44°02′38″ N, 073°25′58″ W.
| 44°01′18″ N, 073°24′08″ W.
| 44°01′04″ N, 073°24′31″ W.
5.2 Tall Ships Visiting Portsmouth | • Event Type: Regatta and Boat Parade.
| • Sponsor: Portsmouth Maritime Commission, Inc.
| • Date: A four day event from Friday through Monday during the last weekend in May. The specific calendar date upon which the listed event falls for each calendar year will be specified in the USCG District 1 Local Notice to Mariners.
| • Time: 9:00 am to 8:00 pm each day.
| • Location: The regulated area includes all waters of Portsmouth Harbor, New Hampshire in the vicinity of Castle Island within the following points (NAD 83):
| 43°03′11″ N, 070°42′26″ W.
| 43°03′18″ N, 070°41′51″ W.
| 43°04′42″ N, 070°42′11″ W.
| 43°04′28″ N, 070°44′12″ W.
| 43°05′36″ N, 070°45′56″ W.
| 43°05′29″ N, 070°46′09″ W.
| 43°04′19″ N, 070°44′16″ W.
| 43°04′22″ N, 070°42′33″ W.
6.0 | JUNE
6.1 Bar Harbor Blessing of the Fleet | • Event Type: Regatta and Boat Parade.
| • Sponsor: Town of Bar Harbor, Maine.
| • Date: A one day event on Sunday during the first weekend of June. The specific calendar date upon which the listed event falls for each calendar year will be specified in the USCG District 1 Local Notice to Mariners.
| • Time: 12:00 pm to 1:30 pm.
| • Location: The regulated area includes all waters of Bar Harbor, Maine within the following points (NAD 83):
| 44°23′32″ N, 068°12′19″ W.
| 44°23′30″ N, 068°12′00″ W.
| 44°23′37″ N, 068°12′00″ W.
| 44°23′35″ N, 068°12′19″ W.
6.2 Charlie Begin Memorial Lobster Boat Races | • Event Type: Power Boat Race.
| • Sponsor: Boothbay Harbor Lobster Boat Race Committee.
| • Date: A one day event on Saturday during the third weekend of June. The specific calendar date upon which the listed event falls for each calendar year will be specified in the USCG District 1 Local Notice to Mariners.
| • Time: 10:00 am to 3:00 pm.
| • Location: The regulated area includes all waters of Boothbay Harbor, Maine in the vicinity of within John′s Island the following points (NAD 83):
| 43°50′04″ N, 069°38′37″ W.
| 43°50′54″ N, 069°38′06″ W.
| 43°50′49″ N, 069°37′50″ W.
| 43°50′00″ N, 069°38′20″ W.
6.3 Rockland Harbor Lobster Boat Races | • Event Type: Power Boat Race.
| • Sponsor: Rockland Harbor Lobster Boat Race Committee.
| • Date: A one day event on Sunday during the third weekend of June. The specific calendar date upon which the listed event falls for each calendar year will be specified in the USCG District 1 Local Notice to Mariners.
| • Time: 9:00 am to 5:00 pm.
| • Location: The regulated area includes all waters of Rockland Harbor, Maine in the vicinity of the Rockland Breakwater Light within the following points (NAD 83):
| 44°05′59″ N, 069°04′53″ W.
| 44°06′43″ N, 069°05′25″ W.
| 44°06′50″ N, 069°05′05″ W.
| 44°06′05″ N, 069°04′34″ W.
6.4 Windjammer Days Parade of Ships | • Event Type: Tall Ship Parade.
| • Sponsor: Boothbay Region Chamber of Commerce.
| • Date: A one day event on Wednesday during the last week of June. The specific calendar date upon which the listed event falls for each calendar year will be specified in the USCG District 1 Local Notice to Mariners.
| • Time: 12:00 pm to 5:00 pm.
| • Location: The regulated area includes all waters of Boothbay Harbor, Maine in the vicinity of Tumbler′s Island within the following points (NAD 83):
| 43°51′02″ N, 069°37′33″ W.
| 43°50′47″ N, 069°37′31″ W.
| 43°50′23″ N, 069°37′57″ W.
| 43°50′01″ N, 069°37′45″ W.
| 43°50′01″ N, 069°38′31″ W.
| 43°50′25″ N, 069°38′25″ W.
| 43°50′49″ N, 069°37′45″ W.
7.0 | JULY
7.1 Moosabec Lobster Boat Races | • Event Type: Power Boat Race.
| • Sponsor: Moosabec Boat Race Committee.
| • Date: A one day event held on July 4th. The specific calendar date upon which the listed event falls for each calendar year will be specified in the USCG District 1 Local Notice to Mariners.
| • Time: 10:00 am to 12:30 pm.
| • Location: The regulated area includes all waters of Jonesport, Maine within the following points (NAD 83):
| 44°31′21″ N, 067°36′44″ W.
| 44°31′36″ N, 067°36′47″ W.
| 44°31′44″ N, 067°35′36″ W.
| 44°31′29″ N, 067°35′33″ W.
7.2 The Great Race | • Event Type: Rowing and Paddling Boat Race.
| • Sponsor: Franklin County Chamber of Commerce.
| • Date: A one day event on Sunday during the first week of September. The specific calendar date upon which the listed event falls for each calendar year will be specified in the USCG District 1 Local Notice to Mariners.
| • Time: 10:00 am to 12:30 pm.
| • Location: The regulated area includes all waters of Lake Champlain in the vicinity of Saint Albans Bay within the following points (NAD 83):
| 44°47′18″ N, 073°10′27″ W.
| 44°47′10″ N, 073°08′51″ W.
7.3 Searsport Lobster Boat Races | • Event Type: Power Boat Race.
| • Sponsor: Searsport Lobster Boat Race Committee.
| • Date: A one day event on Saturday during the second week of July. The specific calendar date upon which the listed event falls for each calendar year will be specified in the USCG District 1 Local Notice to Mariners.
| • Time: 9:00 am to 4:00 pm.
| • Location: The regulated area includes all waters of Searsport Harbor, Maine within the following points (NAD 83):
| 44°26′50″ N, 068°55′20″ W.
| 44°27′04″ N, 068°55′26″ W.
| 44°27′12″ N, 068°54′35″ W.
| 44°26′59″ N, 068°54′29″ W.
7.4 Stonington Lobster Boat Races | • Event Type: Power Boat Race.
| • Sponsor: Stonington Lobster Boat Race Committee.
| • Date: A one day event on Saturday during the second week of July. The specific calendar date upon which the listed event falls for each calendar year will be specified in the USCG District 1 Local Notice to Mariners.
| • Time: 8:00 am to 3:30 pm.
| • Location: The regulated area includes all waters of Stonington, Maine within the following points (NAD 83):
| 44°08′55″ N, 068°40′12″ W.
| 44°09′00″ N, 068°40′15″ W.
| 44°09′11″ N, 068°39′42″ W.
| 44°09′07″ N, 068°39′39″ W.
7.5 Mayor′s Cup Regatta | • Event Type: Sailboat Parade.
| • Sponsor: Plattsburgh Sunrise Rotary.
| • Date: A one day event on Saturday during the second week of July. The specific calendar date upon which the listed event falls for each calendar year will be specified in the USCG District 1 Local Notice to Mariners.
| • Time: 10:00 am to 4:00 pm.
| • Location: The regulated area includes all waters of Cumberland Bay on Lake Champlain in the vicinity of Plattsburgh, New York within the following points (NAD 83):
| 44°39′26″ N, 073°26′25″ W.
| 44°41′27″ N, 073°23′12″ W.
7.6 The Challenge Race | • Event Type: Rowing and Paddling Boat Race.
| • Sponsor: Lake Champlain Maritime Museum.
| • Date: A one day event on Saturday during the third week of July. The specific calendar date upon which the listed event falls for each calendar year will be specified in the USCG District 1 Local Notice to Mariners.
| • Time: 11:00 am to 3:00 pm.
| • Location: The regulated area includes all waters of Lake Champlain in the vicinity of Button Bay State Park within the following points (NAD 83):
| 44°12′25″ N, 073°22′32″ W.
| 44°12′00″ N, 073°21′42″ W.
| 44°12′19″ N, 073°21′25″ W.
| 44°13′16″ N, 073°21′36″ W.
7.7 Friendship Lobster Boat Races | • Event Type: Power Boat Race.
| • Sponsor: Friendship Lobster Boat Race Committee.
| • Date: A one day event on Saturday during the last week of July. The specific calendar date upon which the listed event falls for each calendar year will be specified in the USCG District 1 Local Notice to Mariners.
| • Time: 9:30 am to 3:00 pm.
| • Location: The regulated area includes all waters of Friendship Harbor, Maine within the following points (NAD 83):
| 43°57′51″ N, 069°20′46″ W.
| 43°58′14″ N, 069°19′53″ W.
| 43°58′19″ N, 069°20′01″ W.
| 43°58′00″ N, 069°20′46″ W.
7.8 Arthur Martin Memorial Regatta | • Event Type: Rowing and Paddling Boat Race.
| • Sponsor: I Row.
| • Date: A one day event on Saturday during the third week of July. The specific calendar date upon which the listed event falls for each calendar year will be specified in the USCG District 1 Local Notice to Mariners.
| • Time: 9:00 am to 1:00 pm.
| • Location: The regulated area includes all waters of the Piscataqua River, in the vicinity of Kittery Point, Maine within the following points (NAD 83):
| 43°03′51″ N, 070°41′55″ W.
| 43°04′35″ N, 070°42′18″ W.
| 43°04′42″ N, 070°43′15″ W.
| 43°05′14″ N, 070°43′12″ W.
| 43°05′14″ N, 070°43′06″ W.
| 43°04′44″ N, 070°43′11″ W.
| 43°04′35″ N, 070°42′13″ W.
| 43°03′53″ N, 070°41′40″ W.
7.9 Harpswell Lobster Boat Races | • Event Type: Power Boat Race.
| • Sponsor: Harpswell Lobster Boat Race Committee.
| • Date: A one day event on Sunday during the last week of July. The specific calendar date upon which the listed event falls for each calendar year will be specified in the USCG District 1 Local Notice to Mariners.
| • Time: 10:00 am to 3:00 pm.
| • Location: The regulated area includes all waters of Potts Harbor, Maine within the following points (NAD 83):
| 43°46′50″ N, 070°01′37″ W.
| 43°46′50″ N, 070°01′18″ W.
| 43°46′28″ N, 070°01′36″ W.
| 43°46′28″ N, 070°01′19″ W.
8.0 | AUGUST
8.1 Eggemoggin Reach Regatta | • Event Type: Wooden Boat Parade.
| • Sponsor: Rockport Marine, Inc. and Brookline Boat Yard.
| • Date: A one day event on Saturday during the first week of August. The specific calendar date upon which the listed event falls for each calendar year will be specified in the USCG District 1 Local Notice to Mariners.
| • Time: 11:00 am to 7:00 pm.
| • Location: The regulated area includes all waters of Eggemoggin Reach and Jericho Bay in the vicinity of Naskeag Harbor, Maine within the following points (NAD 83):
| 44°15′16″ N, 068°36′26″ W.
| 44°12′41″ N, 068°29′26″ W.
| 44°07′38″ N, 068°31′30″ W.
| 44°12′54″ N, 068°33′46″ W.
8.2 Southport Rowgatta Rowing and Paddling Boat Race | • Event Type: Rowing and Paddling Boat Race.
| • Sponsor: Boothbay Region YMCA.
| • Date: A one day event on Saturday during the second week of August. The specific calendar date upon which the listed event falls for each calendar year will be specified in the USCG District 1 Local Notice to Mariners.
| • Time: 8:00 am to 3:00 pm.
| • Location: The regulated area includes all waters of Sheepscot Bay and Boothbay, on the shore side of Southport Island, Maine within the following points (NAD 83):
| 43°50′26″ N, 069°39′10″ W.
| 43°49′10″ N, 069°38′35″ W.
| 43°46′53″ N, 069°39′06″ W.
| 43°46′50″ N, 069°39′32″ W.
| 43°49′07″ N, 069°41′43″ W.
| 43°50′19″ N, 069°41′14″ W.
| 43°51′11″ N, 069°40′06″ W.
8.3 Winter Harbor Lobster Boat Races | • Event Type: Power Boat Race.
| • Sponsor: Winter Harbor Chamber of Commerce.
| • Date: A one day event on Saturday during the second week of August. The specific calendar date upon which the listed event falls for each calendar year will be specified in the USCG District 1 Local Notice to Mariners.
| • Time: 9:00 am to 3:00 pm.
| • Location: The regulated area includes all waters of Winter Harbor, Maine within the following points (NAD 83):
| 44°22′06″ N, 068°05′13″ W.
| 44°23′06″ N, 068°05′08″ W.
| 44°23′04″ N, 068°04′37″ W.
| 44°22′05″ N, 068°04′44″ W.
8.4 Lake Champlain Dragon Boat Festival | • Event Type: Rowing and Paddling Boat Race.
| • Sponsor: Dragonheart Vermont.
| • Date: A one day event on Sunday during the second week of August. The specific calendar date upon which the listed event falls for each calendar year will be specified in the USCG District 1 Local Notice to Mariners.
| • Time: 7:00 am to 5:00 pm.
| • Location: The regulated area includes all waters of Burlington Bay within the following points (NAD 83):
| 44°28′51″ N, 073°13′28″ W.
| 44°28′40″ N, 073°13′40″ W.
| 44°28′37″ N, 073°13′29″ W.
| 44°28′40″ N, 073°13′17″ W.
8.5 Merritt Brackett Lobster Boat Races. | • Event Type: Power Boat Race.
| • Sponsor: Town of Bristol, Maine.
| • Date: A one day event on Sunday during the second week of August. The specific calendar date upon which the listed event falls for each calendar year will be specified in the USCG District 1 Local Notice to Mariners.
| • Time: 10:00 am to 3:00 pm.
| • Location: The regulated area includes all waters of Pemaquid Harbor, Maine within the following points (NAD 83):
| 43°52′16″ N, 069°32′10″ W.
| 43°52′41″ N, 069°31′43″ W.
| 43°52′35″ N, 069°31′29″ W.
| 43°52′09″ N, 069°31′56″ W.
8.6 Multiple Sclerosis Regatta | • Event Type: Regatta and Sailboat Race.
| • Sponsor: Maine Chapter, Multiple Sclerosis Society.
| • Date: A one day event on Saturday during the third week of August. The specific calendar date upon which the listed event falls for each calendar year will be specified in the USCG District 1 Local Notice to Mariners.
| • Time: 10:00 am to 4:00 pm.
| • Location: The regulated area for the start of the race includes all waters of Casco Bay, Maine in the vicinity of Peaks Island within the following points (NAD 83):
| 43°40′24″ N, 070°14′20″ W.
| 43°40′36″ N, 070°13′56″ W.
| 43°39′58″ N, 070°13′21″ W.
| 43°39′46″ N, 070°13′51″ W.
8.7 Multiple Sclerosis Harborfest Tugboat Race | • Event Type: Power Boat Race.
| • Sponsor: Maine Chapter, National Multiple Sclerosis Society.
| • Date: A one day event on Sunday during the third week of August. The specific calendar date upon which the listed event falls for each calendar year will be specified in the USCG District 1 Local Notice to Mariners.
| • Time: 10:00 am to 3:00 pm.
| • Location: The regulated area includes all waters of Portland Harbor, Maine in the vicinity of Maine State Pier within the following points (NAD 83):
| 43°40′25″ N, 070°14′21″ W.
| 43°40′36″ N, 070°13′56″ W.
| 43°39′58″ N, 070°13′21″ W.
| 43°39′47″ N, 070°13′51″ W.
9.0 | SEPTEMBER
9.1 Pirates Festival Lobster Boat Races | • Event Type: Power Boat Race.
| • Sponsor: Eastport Pirates Festival.
| • Date: A one day event on Sunday during the second weekend of September. The specific calendar date upon which the listed event falls for each calendar year will be specified in the USCG District 1 Local Notice to Mariners.
| • Time: 11:00 am to 6:00 pm.
| • Location: The regulated area includes all waters in the vicinity of Eastport Harbor, Maine within the following points (NAD 83):
| 44°54′14″ N, 066°58′52″ W.
| 44°54′14″ N, 068°58′56″ W.
| 44°54′24″ N, 066°58′52″ W.
| 44°54′24″ N, 066°58′56″ W.

PART 165—REGULATED NAVIGATION AREAS AND LIMITED ACCESS AREAS

3. The authority citation for Part 165 continues to read as follows:

Authority: 33 U.S.C. 1226, 1231; 46 U.S.C. Chapter 701, 3306, 3703; 33 CFR 1.05-1, and 160.5; Pub. L. 107-295, 116 Stat. 2064; Department of Homeland Security Delegation No. 0170.1.

4. Revise § 165.171 to read as follows:

§ 165.171 Safety zones for fireworks displays and swim events held in Coast Guard sector Northern New England Captain of the Port Zone.

The Coast Guard is establishing safety zones for the fireworks displays listed in the table to this section (Table to § 165.171). These regulations will be enforced for the duration of each event, on or about the dates indicated in the Table to § 165.171. Mariners should consult their Local Notice to Mariners to remain apprised of the specific calendar date upon which the listed event falls for each calendar year and other specific information concerning the event. First Coast Guard District Local Notice to Mariners can be found at: http://www.navcen.uscg.gov/. The Sector Northern New England Marine Events schedule can also be viewed electronically at www.homeport.uscg.mil. Although listed in the Code of Federal Regulations, sponsors of events listed in the Table to § 165.171 shall submit an application each year in accordance with 33 CFR 100.15.

(a) The Coast Guard may patrol each event area under the direction of a designated Coast Guard Patrol Commander. The Patrol Commander may be contacted on Channel 16 VHF-FM (156.8 MHz) by the call sign “PATCOM.” The “official patrol vessels” may consist of any Coast Guard, Coast Guard Auxiliary, State, or local law enforcement vessels assigned or approved by the Captain of the Port, Sector Northern New England.

(b) Vessels may not transit the regulated areas without Patrol Commander approval. Vessels permitted to transit must operate at a no wake speed, in a manner which will not endanger participants or other crafts in the event.

(c) Spectators or other vessels shall not anchor, block, loiter, or impede the movement of event participants or official patrol vessels in the regulated areas during the effective dates and times, or dates and times as modified through the Local Notice to Mariners, unless authorized by an official patrol vessel.

(d) The Patrol Commander may control the movement of all vessels in the regulated area. When hailed or signaled by an official patrol vessel, a vessel shall come to an immediate stop and comply with the lawful directions issued. Failure to comply with a lawful direction may result in expulsion from the area, citation for failure to comply, or both.

(e) The Patrol Commander may delay or terminate any event in this subpart at any time to assure safety. Such action may be justified as a result of weather, traffic density, spectator operation or participant behavior.

(f) For all swim events listed, vessels not associated with the event shall maintain a separation zone of 200 feet from participating swimmers.

(g) For all fireworks displays listed below, the regulated area is that area of navigable waters within a 350 yard radius of the launch platform or launch site for each fireworks display.

Table to § 165.171
5.0 | MAY
5.1 Hawgs, Pies, & Fireworks | • Event Type: Fireworks Display.
| • Sponsor: Gardiner Maine Street.
| • Date: One night event on Saturday during the last week of May. The specific calendar date upon which the listed event falls for each calendar year will be specified in the USCG District 1 Local Notice to Mariners.
| • Time: 8:00 pm to 10:00 pm.
| • Location: In the vicinity of the Gardiner Waterfront, Gardiner, Maine in approximate position:
| 44°13′52″ N, 069°46′08″ W (NAD 83).
6.0 | JUNE
6.1 Rotary Waterfront Days Fireworks | • Event Type: Fireworks Display.
| • Sponsor: Gardiner Rotary.
| • Date: Two night event on Wednesday and Saturday during the third week of June. The specific calendar date upon which the listed event falls for each calendar year will be specified in the USCG District 1 Local Notice to Mariners.
| • Time: 8:00 pm to 10:00 pm.
| • Location: In the vicinity of the Gardiner Waterfront, Gardiner, Maine in approximate position:
| 44°13′52″ N, 069°46′08″ W (NAD 83).
6.2 Windjammer Days Fireworks | • Event Type: Fireworks Display.
| • Sponsor: Boothbay Harbor Region Chamber of Commerce.
| • Date: One night event on Wednesday during the last week of June. The specific calendar date upon which the listed event falls for each calendar year will be specified in the USCG District 1 Local Notice to Mariners.
| • Time: 8:00 pm to 10:30 pm.
| • Location: In the vicinity of McFarland Island, Boothbay Harbor, Maine in approximate position:
| 43°50′38″ N, 069°37′57″ W (NAD 83).
7.0 | JULY
7.1 Vinalhaven 4th of July Fireworks | • Event Type: Firework Display.
| • Sponsor: Vinalhaven 4th of July Committee.
| • Date: First Saturday in July. The specific calendar date upon which the listed event falls for each calendar year will be specified in the USCG District 1 Local Notice to Mariners.
| • Time: 8:00 pm to 10:30 pm.
| • Location: In the vicinity of Grime's Park, Vinalhaven, Maine in approximate position:
| 44°02′34″ N, 068°50′26″ W (NAD 83).
7.2 Burlington Independence Day Fireworks | • Event Type: Firework Display.
| • Sponsor: City of Burlington, Vermont.
| • Date: July 3rd. The specific calendar date upon which the listed event falls for each calendar year will be specified in the USCG District 1 Local Notice to Mariners.
| • Time: 9:00 pm to 11:00 pm.
| • Location: From a barge in the vicinity of Burlington Harbor, Burlington, Vermont in approximate position:
| 44°28′31″ N, 073°13′31″ W (NAD 83).
7.3 Camden 3rd of July Fireworks | • Event Type: Fireworks Display.
| • Sponsor: Camden, Rockport, Lincolnville Chamber of Commerce.
| • Date: July 3rd. The specific calendar date upon which the listed event falls for each calendar year will be specified in the USCG District 1 Local Notice to Mariners.
| • Time: 8:00 pm to 10:00 pm.
| • Location: In the vicinity of Camden Harbor, Maine in approximate position:
| 44°12′32″ N, 069°02′58″ W (NAD 83).
7.4 Bangor 4th of July Fireworks | • Event Type: Fireworks Display.
| • Sponsor: Bangor 4th of July Fireworks.
| • Date: July 4th. The specific calendar date upon which the listed event falls for each calendar year will be specified in the USCG District 1 Local Notice to Mariners.
| • Time: 8:00 pm to 10:30 pm.
| • Location: In the vicinity of the Bangor Waterfront, Bangor, Maine in approximate position:
| 44°47′27″ N, 068°46′31″ W (NAD 83).
7.5 Bar Harbor 4th of July Fireworks | • Event Type: Fireworks Display.
| • Sponsor: Bar Harbor Chamber of Commerce.
| • Date: July 4th. The specific calendar date upon which the listed event falls for each calendar year will be specified in the USCG District 1 Local Notice to Mariners.
| • Time: 8:00 pm to 10:30 pm.
| • Location: In the vicinity of Bar Harbor Town Pier, Bar Harbor, Maine in approximate position:
| 44°23′31″ N, 068°12′15″ W (NAD 83).
7.6 Boothbay Harbor 4th of July Fireworks | • Event Type: Fireworks Display.
| • Sponsor: Town of Boothbay Harbor.
| • Date: July 4th. The specific calendar date upon which the listed event falls for each calendar year will be specified in the USCG District 1 Local Notice to Mariners.
| • Time: 8:00 pm to 10:30 pm.
| • Location: In the vicinity of McFarland Island, Boothbay Harbor, Maine in approximate position:
| 43°50′38″ N, 069°37′57″ W (NAD 83).
7.7 Colchester 4th of July Fireworks | • Event Type: Fireworks Display.
| • Sponsor: Town of Colchester, Recreation Department.
| • Date: July 4th. The specific calendar date upon which the listed event falls for each calendar year will be specified in the USCG District 1 Local Notice to Mariners.
| • Time: 8:00 pm to 10:00 pm.
| • Location: In the vicinity of Bayside Beach and Mallets Bay in Colchester, Vermont at approximate position:
| 44°32′44″ N, 073°13′10″ W (NAD 83).
7.8 Eastport 4th of July Fireworks | • Event Type: Fireworks Display.
| • Sponsor: Eastport 4th of July Committee.
| • Date: July 4th. The specific calendar date upon which the listed event falls for each calendar year will be specified in the USCG District 1 Local Notice to Mariners.
| • Time: 9:00 pm to 9:30 pm.
| • Location: From the Waterfront Public Pier in Eastport, Maine at approximate position:
| 44°54′25″ N, 066°58′55″ W (NAD 83).
7.9 Ellis Short Sand Park Trustee Fireworks | • Event Type: Fireworks Display.
| • Sponsor: William Burnham.
| • Date: July 4th. The specific calendar date upon which the listed event falls for each calendar year will be specified in the USCG District 1 Local Notice to Mariners.
| • Time: 8:30 pm to 11:00 pm.
| • Location: In the vicinity of York Beach, Maine in approximate position:
| 43°10′27″ N, 070°48′31″ W (NAD 83).
7.10 Hampton Beach 4th of July Fireworks | • Event Type: Fireworks Display.
| • Sponsor: Hampton Beach Village District.
| • Date: July 4th. The specific calendar date upon which the listed event falls for each calendar year will be specified in the USCG District 1 Local Notice to Mariners.
| • Time: 8:30 pm to 11:00 pm.
| • Location: In the vicinity of Hampton Beach, New Hampshire in approximate position:
| 42°54′40″ N, 070°36′25″ W (NAD 83).
7.11 Jonesport 4th of July Fireworks | • Event Type: Fireworks Display.
| • Sponsor: Jonesport 4th of July Committee.
| • Date: July 4th. The specific calendar date upon which the listed event falls for each calendar year will be specified in the USCG District 1 Local Notice to Mariners.
| • Time: 9:30 pm to 10:00 pm.
| • Location: In the vicinity of Beals Island, Jonesport, Maine in approximate position:
| 44°31′18″ N, 067°36′43″ W (NAD 83).
7.12 Main Street Heritage Days 4th of July Fireworks | • Event Type: Fireworks Display.
| • Sponsor: Main Street Inc.
| • Date: July 4th. The specific calendar date upon which the listed event falls for each calendar year will be specified in the USCG District 1 Local Notice to Mariners.
| • Time: 8:00 pm to 10:30 pm.
| • Location: In the vicinity of Reed and Reed Boat Yard, Woolwich, Maine in approximate position:
| 43°54′56″ N, 069°48′16″ W (NAD 83).
7.13 Portland Harbor 4th of July Fireworks | • Event Type: Fireworks Display.
| • Sponsor: Department of Parks and Recreation, Portland, Maine.
| • Date: July 4th. The specific calendar date upon which the listed event falls for each calendar year will be specified in the USCG District 1 Local Notice to Mariners.
| • Time: 8:30 pm to 10:30 pm.
| • Location: In the vicinity of East End Beach, Portland, Maine in approximate position:
| 43°40′16″ N, 070°14′44″ W (NAD 83).
7.14 St. Albans Day Fireworks | • Event Type: Fireworks Display.
| • Sponsor: St. Albans Area Chamber of Commerce.
| • Date: July 4th. The specific calendar date upon which the listed event falls for each calendar year will be specified in the USCG District 1 Local Notice to Mariners.
| • Time: 9:00 pm to 10:00 pm.
| • Location: From the St. Albans Bay dock in St. Albans Bay, Vermont in the approximate position:
| 44°48′25″ N, 073°08′23″ W (NAD 83).
7.15 Stonington 4th of July Fireworks | • Event Type: Fireworks Display.
| • Sponsor: Deer Isle—Stonington Chamber of Commerce.
| • Date: July 4th. The specific calendar date upon which the listed event falls for each calendar year will be specified in the USCG District 1 Local Notice to Mariners.
| • Time: 8:00 pm to 10:30 pm.
| • Location: In the vicinity of Two Bush Island, Stonington, Maine in approximate position:
| 44°08′57″ N, 068°39′54″ W (NAD 83).
7.16 Urban/EPIC Triathlon | • Event Type: Swim Event.
| • Sponsor: Tri-Maine Productions.
| • Date: A one day event on Saturday during the second week of July. The specific calendar date upon which the listed event falls for each calendar year will be specified in the USCG District 1 Local Notice to Mariners.
| • Time: 7:00 am to 11:00 am.
| • Location: The regulated area includes all waters of Portland Harbor in the vicinity of East End Beach in Portland, Maine within the following points (NAD 83):
| 43°40′00″ N, 070°14′20″ W.
| 43°40′00″ N, 070°14′00″ W.
| 43°40′15″ N, 070°14′29″ W.
| 43°40′17″ N, 070°13′22″ W.
7.17 Tri for a Cure Swim Clinics | • Event Type: Swim Event.
| • Sponsor: Maine Cancer Foundation.
| • Date: A two day event held on third Sunday and Thursday in July. The specific calendar date upon which the listed event falls for each calendar year will be specified in the USCG District 1 Local Notice to Mariners.
| • Time: 12:30 pm to 7:30 pm.
| • Location: The regulated area includes all waters of Portland Harbor, Maine in the vicinity of Spring Point Light within the following points (NAD 83):
| 43°39′01″ N, 070°13′32″ W.
| 43°39′07″ N, 070°13′29″ W.
| 43°39′06″ N, 070°13′41″ W.
| 43°39′01″ N, 070°13′36″ W.
7.18 Richmond Days Fireworks | • Event Type: Fireworks Display.
| • Sponsor: Town of Richmond, Maine.
| • Date: A one day event on Saturday during the fourth weekend of July. The specific calendar date upon which the listed event falls for each calendar year will be specified in the USCG District 1 Local Notice to Mariners.
| • Time: 8:00 pm to 10:00 pm.
| • Location: From a barge in the vicinity of the inner harbor, Tenants Harbor, Maine in approximate position:
| 44°08′42″ N, 068°27′06″ W (NAD83).
7.19 Colchester Triathlon | • Event Type: Swim Event.
| • Sponsor: Colchester Parks and Recreation Department.
| • Date: A one day event on Wednesday during the last week of July. The specific calendar date upon which the listed event falls for each calendar year will be specified in the USCG District 1 Local Notice to Mariners.
| • Time: 7:00 am to 11:00 am.
| • Location: The regulated area includes all waters of Malletts Bay on Lake Champlain, Vermont within the following points (NAD 83):
| 44°32′18″ N, 073°12′35″ W.
| 44°32′28″ N, 073°12′56″ W.
| 44°32′57″ N, 073°12′38″ W.
7.20 Peaks to Portland Swim | • Event Type: Swim Event.
| • Sponsor: Cumberland County YMCA.
| • Date: A one day event on Saturday during the last week of July. The specific calendar date upon which the listed event falls for each calendar year will be specified in the USCG District 1 Local Notice to Mariners.
| • Time: 5:00 am to 1:00 pm.
| • Location: The regulated area includes all waters of Portland Harbor between Peaks Island and East End Beach in Portland, Maine within the following points (NAD 83):
| 43°39′20″ N, 070°11′58″ W.
| 43°39′45″ N, 070°13′19″ W.
| 43°40′11″ N, 070°14′13″ W.
| 43°40′08″ N, 070°14′29″ W.
| 43°40′00″ N, 070°14′23″ W.
| 43°39′34″ N, 070°13′31″ W.
| 43°39′13″ N, 070°11′59″ W.
7.21 Friendship Days Fireworks | • Event Type: Fireworks Display.
| • Sponsor: Town of Friendship.
| • Date: A one day event on Saturday during the last weekend of July. The specific calendar date upon which the listed event falls for each calendar year will be specified in the USCG District 1 Local Notice to Mariners.
| • Time: 8:00 pm to 10:30 pm.
| • Location: In the vicinity of the Town Pier, Friendship Harbor, Maine in approximate position:
| 43°58′23″ N, 069°20′12″ W (NAD83).
7.22 Champ Chum Swim | • Event Type: Swim Event.
| • Sponsor: Against Malaria Foundation.
| • Date: A one day event on Saturday during the last week of July. The specific calendar date upon which the listed event falls for each calendar year will be specified in the USCG District 1 Local Notice to Mariners.
| • Time: 8:00 am to 12:00 pm.
| • Location: The regulated area includes all waters of Lake Champlain between Thompson's Point, Vermont and Spilt Rock in Adirondack Park, New York within the following points (NAD 83):
| 44°16′04″ N, 073°18′19″ W.
| 44°16′08″ N, 073°19′17″ W.
8.0 | August
8.1 Sprucewold Cabbage Island Swim | • Event Type: Swim Event.
| • Sponsor: Sprucewold Association.
| • Date: A one day event on Saturday during the first week of August. The specific calendar date upon which the listed event falls for each calendar year will be specified in the USCG District 1 Local Notice to Mariners.
| • Time: 1:00 pm to 6:00 pm.
| • Location: The regulated area includes all waters of Linekin Bay between Cabbage Island and Sprucewold Beach in Boothbay Harbor, Maine within the following points (NAD 83):
| 43°50′37″ N, 069°36′23″ W.
| 43°50′37″ N, 069°36′59″ W.
| 43°50′16″ N, 069°36′46″ W.
| 43°50′22″ N, 069°36′21″ W.
8.2 Westerlund's Landing Party Fireworks. | • Event Type: Fireworks Display.
| • Sponsor: Portside Marina.
| • Date: A one day event on Saturday during the first weekend of August. The specific calendar date upon which the listed event falls for each calendar year will be specified in the USCG District 1 Local Notice to Mariners.
| • Time: 8:00 pm to 10:30 pm.
| • Location: In the vicinity of Westerlund's Landing in South Gardiner, Maine in approximate position:
| 44°10′19″ N, 069°45′24″ W (NAD 83).
8.3 Y-Tri Triathlon | • Event Type: Swim Event.
| • Sponsor: Plattsburgh YMCA.
| • Date: A one day event on Saturday during the first week of August. The specific calendar date upon which the listed event falls for each calendar year will be specified in the USCG District 1 Local Notice to Mariners.
| • Time: 9:00 am to 10:00 am.
| • Location: The regulated area includes all waters of Treadwell Bay on Lake Champlain in the vicinity of Point Au Roche State Park, Plattsburgh, New York within the following points (NAD 83):
| 44°46′30″ N, 073°23′26″ W.
| 44°46′17″ N, 073°23′26″ W.
| 44°46′17″ N, 073°23′46″ W.
| 44°46′29″ N, 073°23′46″ W.
8.4 Greater Burlington YMCA Lake Swim. | • Event Type: Swim Event.
| • Sponsor: Greater Burlington YMCA.
| • Date: A one day event on Saturday during the second week of August. The specific calendar date upon which the listed event falls for each calendar year will be specified in the USCG District 1 Local Notice to Mariners.
| • Time: 8:00 am to 6:00 pm.
| • Location: The regulated area includes all waters in Lake Champlain in the vicinity of North Hero Island within the following points (NAD 83):
| 44°46′55″ N, 073°22′14″ W.
| 44°47′08″ N, 073°19′05″ W.
| 44°46′48″ N, 073°17′13″ W.
| 44°46′10″ N, 073°16′39″ W.
| 44°41′08″ N, 073°20′58″ W.
| 44°41′36″ N, 073°23′01″ W.
8.5 York Beach Fire Department Fireworks. | • Event Type: Fireworks Display.
| • Sponsor: York Beach Fire Department.
| • Date: A one day event on Sunday during the first week in August. The specific calendar date upon which the listed event falls for each calendar year will be specified in the USCG District 1 Local Notice to Mariners.
| • Time: 8:30 pm to 11:30 pm.
| • Location: In the vicinity of Short Sand Cove in York, Maine in approximate position:
| 43°10′27″ N, 070°36′25″ W (NAD 83).
8.6 Tri for a Cure Swim Clinics | • Event Type: Swim Event.
| • Sponsor: Maine Cancer Foundation.
| • Date: A multi-day training event held during July. The specific calendar date upon which the listed event falls for each calendar year will be specified in the USCG District 1 Local Notice to Mariners.
| • Time: 8:30 am to 11:30 am.
| • Location: The regulated area includes all waters of Portland Harbor, Maine in the vicinity of Spring Point Light within the following points (NAD 83):
| 43°39′01″ N, 070°13′32″ W.
| 43°39′07″ N, 070°13′29″ W.
| 43°39′06″ N, 070°13′41″ W.
| 43°39′01″ N, 070°13′36″ W.
8.7 Tri for a Cure Triathlon | • Event Type: Swim Event.
| • Sponsor: Maine Cancer Foundation.
| • Date: A one day event on Sunday during the second week in August. The specific calendar date upon which the listed event falls for each calendar year will be specified in the USCG District 1 Local Notice to Mariners.
| • Time: 12:30 pm to 4:30 pm.
| • Location: The regulated area includes all waters of Portland Harbor, Maine in the vicinity of Spring Point Light within the following points (NAD 83):
| 43°39′01″ N, 070°13′32″ W.
| 43°39′07″ N, 070°13′29″ W.
| 43°39′06″ N, 070°13′41″ W.
| 43°39′01″ N, 070°13′36″ W.
8.8 Rockland Breakwater Swim | • Event Type: Swim Event.
| • Sponsor: Pen-Bay Masters.
| • Date: A one day event on Saturday during the fourth week of August. The specific calendar date upon which the listed event falls for each calendar year will be specified in the USCG District 1 Local Notice to Mariners.
| • Time: 7:30 am to 1:30 pm.
| • Location: The regulated area includes all waters of Rockland Harbor, Maine in the vicinity of Jameson Point within the following points (NAD 83):
| 44°06′16″ N, 069°04′39″ W.
| 44°06′13″ N, 069°04′36″ W.
| 44°06′12″ N, 069°04′43″ W.
| 44°06′17″ N, 069°04′44″ W.
| 44°06′18″ N, 069°04′40″ W.
9.0 | SEPTEMBER
9.1 Windjammer Weekend Fireworks | • Event Type: Fireworks Display.
| • Sponsor: Town of Camden, Maine.
| • Date: A one day event on Friday during the first weekend of September. The specific calendar date upon which the listed event falls for each calendar year will be specified in the USCG District 1 Local Notice to Mariners.
| • Time: 8:00 pm to 9:30 pm.
| • Location: From a barge in the vicinity of Northeast Point, Camden Harbor, Maine in approximate position:
| 44°12′10″ N, 069°03′11″ W (NAD 83).
9.2 Eastport Pirate Festival Fireworks | • Event Type: Fireworks Display.
| • Sponsor: Eastport Pirate Festival.
| • Date: A one day event on Saturday during the second weekend of September. The specific calendar date upon which the listed event falls for each calendar year will be specified in the USCG District 1 Local Notice to Mariners.
| • Time: 7:00 pm to 10:00 pm.
| • Location: From the Waterfront Public Pier in Eastport, Maine at approximate position:
| 44°54′17″ N, 066°58′58″ W (NAD 83).
9.3 The Lobsterman Triathlon | • Event Type: Swim Event.
| • Sponsor: Tri-Maine Productions.
| • Date: A one day swim event on Saturday during the second weekend of September. The specific calendar date upon which the listed event falls for each calendar year will be specified in the USCG District 1 Local Notice to Mariners.
| • Time: 8:00 am to 11:00 am.
| • Location: The regulated area includes all waters in the vicinity of Winslow Park in South Freeport, Maine within the following points (NAD 83):
| 43°47′59″ N, 070°06′56″ W.
| 43°47′44″ N, 070°06′56″ W.
| 43°47′44″ N, 070°07′27″ W.
| 43°47′57″ N, 070°07′27″ W.
9.4 Burlington Triathlon | • Event Type: Swim Event.
| • Sponsor: Race Vermont.
| • Date: A one day swim event on Sunday during the second weekend of September. The specific calendar date upon which the listed event falls for each calendar year will be specified in the USCG District 1 Local Notice to Mariners.
| • Time: 7:00 am to 10:00 am.
| • Location: The regulated area includes all waters in the vicinity of North Beach, Burlington, Vermont within the following points (NAD 83):
| 44°29′31″ N, 073°14′22″ W.
| 44°29′12″ N, 073°14′14″ W.
| 44°29′17″ N, 073°14′34″ W.
9.5 Eliot Festival Day Fireworks | • Event Type: Fireworks Display.
| • Sponsor: Eliot Festival Day Committee.
| • Date: A one day event on Saturday during the fourth weekend of September. The specific calendar date upon which the listed event falls for each calendar year will be specified in the USCG District 1 Local Notice to Mariners.
| • Time: 8:00 pm to 10:30 pm.
| • Location: In the vicinity of Eliot Town Boat Launch, Eliot, Maine in approximate position:
| 43°08′56″ N, 070°49′52″ W (NAD 83).

Dated: December 8, 2011.
C. L. Roberge,
Captain, U.S. Coast Guard, Captain of the Port Sector Northern New England.

[FR Doc. 2011-33032 Filed 12-23-11; 8:45 am]

BILLING CODE 9110-04-P